FEDERAL EMERGENCY MANAGEMENT AGENCY

Fee Schedule for Processing Requests for Map Changes, for Flood Insurance Study Backup Data, and for National Flood Insurance Program Map and Insurance Products

AGENCY: Federal Emergency Management Agency (FEMA).

ACTION: Correction of notice.

SUMMARY: This document corrects the notice published on Wednesday, May 3, 2000 (65 FR 25728). The correction relates to fees for paper copies of FHBM, FIRM, DFIRM, or FBFM panels.

EFFECTIVE DATE: May 3, 2000.

FOR FURTHER INFORMATION CONTACT: Matthew Miller, Federal Emergency Management Agency, 500 C Street SW., Washington, DC 20472, or (telephone) (202) 646-3610, or (email) matt.miller@fema.gov.

SUPPLEMENTARY INFORMATION: The Federal Emergency Management Agency published a notice on May 3, 2000 that revised fee schedules for processing certain types of requests for changes to National Flood Insurance Program (NFIP) maps, for processing requests for Flood Insurance Study (FIS) technical and administrative support data, and for processing requests for particular NFIP map and insurance produces. As published the notice incorrectly printed the fee per panel for paper copies of FHBM, FIRM, DFIRM, or FBFM panels.

Accordingly, the notice published as FR Doc. 00-11013 on May 3, 2000, 65 FR 25726, is corrected as follows:

On page 25728, in the table, the first entry under the column entitled “Fee”, which reads “$1.50 per panel”, should read “$1.05 per panel”.

Dated: July 21, 2000.
Michael Armstrong,
Associate Director for Mitigation.

[FR Doc. 00-19708 Filed 8-2-00; 8:45 am]

BILLING CODE 6718-01-P